DEPARTMENT OF THE INTERIOR

Bureau of Ocean Energy Management

[Docket No. BOEM-2018-0004]

Commercial Leasing for Wind Power on the Outer Continental Shelf in the New York Bight—Call for Information and Nominations

AGENCY: Bureau of Ocean Energy Management, Interior.

ACTION: Call for Information and Nominations for Commercial Leasing for Wind Power on the Outer Continental Shelf in the New York Bight.

SUMMARY: The Bureau of Ocean Energy Management (BOEM) invites the submission of information and nominations for commercial wind leases that would allow a lessee to propose the construction of a wind energy project on the Outer Continental Shelf (OCS) in the New York Bight, and to develop one or more projects, if approved, after further environmental review. Although this announcement is not itself a leasing announcement, the areas described herein, or portions thereof, may be available for future leasing. BOEM will use responses to this Call for Information and Nominations (hereinafter referred to as “Call” or “notice”) to gauge specific interest in acquiring commercial wind leases in some or all of the Call Areas, as required by law. Parties wishing to submit a nomination in response to this Call should submit detailed and specific information in response to the requirements described in the section entitled, “Required Nomination Information.”

This announcement also requests comments and information from interested and affected parties about site conditions, resources, and multiple uses in close proximity to, or within, the Call Areas that would be relevant to BOEM's review of any nominations submitted and/or to BOEM's possible subsequent decision to offer all or part of the Call Areas for commercial wind leasing. The information that BOEM is requesting is described in the section of this Call entitled, “Requested Information from Interested or Affected Parties.”

DATES: BOEM must receive nominations describing your interest in one or more, or any portion of, the Call Areas, by a postmarked date of May 29, 2018 for your nomination to be considered. BOEM requests comments or submissions of information to be postmarked or delivered by this same date. BOEM will consider only those nominations received that conform to this requirement.

ADDRESSES: If you are submitting a nomination for a lease area in response to this Call, please submit your nomination, following the “Required Nomination Information” section below, to the following address: BOEM, Office of Renewable Energy Programs, 45600 Woodland Road (VAM-OREP), Sterling, Virginia 20166. In addition to a paper copy of the nomination, include an electronic copy of the nomination on a data storage device. BOEM will list the parties that submitted nominations and the location of the proposed lease areas (i.e., OCS blocks nominated) on the BOEM website after the 45-day comment period has closed.

Comments and other submissions of information may be submitted by either of the following two methods:

1. Federal eRulemaking Portal: http://www.regulations.gov. In the entry entitled, “Enter Keyword or ID,” enter BOEM-2018-0004, and then click “search.” Follow the instructions to submit public comments and view supporting and related materials available for this notice.

2. U.S. Postal Service or other delivery service. Send your comments and information to the following address: Bureau of Ocean Energy Management, Office of Renewable Energy Programs, 45600 Woodland Road (VAM-OREP), Sterling, Virginia 20166.

All responses will be reported on http://www.regulations.gov.

If you wish to protect the confidentiality of your nominations or comments, clearly mark the relevant sections and request that BOEM treat them as confidential. Please label privileged or confidential information “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Luke Feinberg, BOEM, Office of Renewable Energy Programs, 45600 Woodland Road (VAM-OREP), Sterling, Virginia 20166, (703) 787-1705 or luke.feinberg@boem.gov.

SUPPLEMENTARY INFORMATION:

Authority

This Call is published pursuant to subsection 8(p)(3) of the OCS Lands Act, 43 U.S.C. 1337(p)(3), which was added by section 388 of the Energy Policy Act of 2005 (EPAct), as well as the implementing regulations at 30 CFR part 585.

Call Areas

The Call Areas described in this notice are located on the OCS in the New York Bight and are delineated as Fairways North, Fairways South, Hudson North, and Hudson South. The four Call Areas include 222 whole OCS blocks and 172 partial blocks in total, and comprise approximately 2,047 square nautical miles (nmi) (702,192 hectares). These Call Areas were established after considering the New York State Area for Consideration for the Potential Locating of Offshore Wind Energy Areas (Area for Consideration), as well as additional input from the New York State Department of State, New York State Energy Research and Development Authority (NYSERDA), and the Intergovernmental Renewable Energy Task Force for the New York Bight (which includes members of the New York and New Jersey Task Forces, as well as regional representatives from Connecticut, Rhode Island, and Massachusetts). These areas will be analyzed by BOEM during the area identification (Area ID) portion of the leasing process. For context, based on a power density ratio of 0.01 megawatts (MW) per acre, New York's goal of procuring 2.4 gigawatts (GW) of offshore wind energy by 2030 could likely be accommodated by developing 14% of the call areas presented. Development of approximately 18% of the Call Areas would be required to meet New York State's recommendation that BOEM designate four 800 MW lease areas (3.2 GW of capacity). A detailed description of the areas and how they were developed is described in the section of this Call entitled, “Description of the Area.”

Purpose of the Call for Information and Nominations

The OCS Lands Act requires BOEM to award leases competitively, unless BOEM makes a determination that there is no competitive interest (43 U.S.C. 1337(p)(3)). BOEM will make this determination after reviewing the nominations received in response to this Call. This Call also requests information from interested and affected parties on issues relevant to potential leasing within the Call Areas.

The responses to this Call could lead to the initiation of a competitive leasing process in some parts of the Call Areas (i.e., where competition exists), and a noncompetitive process in other parts of the Call Areas (i.e., where no competitive interest exists). The leasing process is described more completely under the “Determination of Competitive Interest” and “Noncompetitive Leasing Process” sections of this Call. In any parts of the Call Areas where a single entity has shown interest, but BOEM determines there is no competitive interest, BOEM may proceed with the noncompetitive lease process pursuant to 30 CFR 585.232. If BOEM determines that there is competitive interest in some or all of the Call Areas, then BOEM may proceed with Area ID, as set forth in 30 CFR 585.211(b), and the competitive leasing process as set forth under 30 CFR 585.211 through 585.225.

A lease, whether issued through a competitive or noncompetitive process, does not grant the lessee the right to construct any facilities on the lease; rather, the lease grants the lessee the exclusive right to submit development plans to BOEM, which BOEM must first have approved before the lessee may proceed to the next stage of the process (30 CFR 585.600 and 585.601).

Whether the leasing process is competitive or noncompetitive, it will include additional opportunities for the public to provide input, and any proposed actions will be reviewed thoroughly for potential environmental and multiple use impacts. The area(s) that may be offered for lease, if any, has/have not yet been determined, and may include less than the total footprint of the Call Areas identified in this Call.

1 Background

1.1 Energy Policy Act of 2005

The EPAct amended the OCS Lands Act by adding subsection 8(p)(1)(C), which authorizes the Secretary of the Interior to grant leases, easements, or rights-of-way (ROWs) on the OCS for activities that are not otherwise authorized by law and that produce or support production, transportation, or transmission of energy from sources other than oil or gas, including renewable energy sources. The EPAct also required the issuance of regulations to carry out the new authority pertaining to renewable energy on the OCS. The Secretary delegated this authority to issue leases, easements, and ROWs, and to promulgate regulations, to the Director of BOEM. On April 29, 2009, BOEM published regulations entitled, Renewable Energy and Alternate Uses of Existing Facilities on the Outer Continental Shelf, which have been codified at 30 CFR part 585, which can be found at: http://www.boem.gov/uploadedFiles/30_CFR_585.pdf.

1.2 Ocean Planning

BOEM participates in ocean planning through a collaborative, data-based approach to foster coordinated and informed decisions about our shared ocean resources and the many uses that depend on them.

BOEM appreciates the importance of coordinating its planning endeavors with other OCS users, regulators, and relevant Federal agencies—including the U.S. Fish and Wildlife Service (USFWS), the National Park Service (NPS), the U.S. Coast Guard (USCG), the National Oceanic and Atmospheric Administration (NOAA), and the Department of Defense (DoD). BOEM intends to coordinate with the regional planning bodies, which include Federal and state agencies; federally recognized tribes; and Fishery Management Councils. BOEM will also utilize information contained in the Northeast and Mid-Atlantic Ocean Data Portals ¹ in its decision-making, among other sources of information, because the Portals include maps of marine life, habitat areas, cultural resources, transportation, fishing, and other human uses to be considered when new energy or other infrastructure projects are proposed. BOEM anticipates that continued coordination with its Intergovernmental Renewable Energy Task Forces (Task Forces) will also help inform comprehensive ocean planning efforts.

¹ The Northeast Ocean Data Portal (maintained by NROC, the Northeast Regional Ocean Council http://www.northeastoceandata.org) and the Mid-Atlantic Ocean Data Portal (maintained by MARCO, the Mid-Atlantic Regional Council on the Ocean http://portal.midatlanticocean.org) draw upon data from the MarineCadastre.gov national data portal, which was developed through a partnership between NOAA and BOEM. MarineCadastre.gov is an integrated marine information system that provides data, tools, and technical support for ocean and Great Lakes planning, designed specifically to support renewable energy siting on the OCS, but is also being used for other ocean-related efforts and is recognized by regional ocean governance groups as the central place for authoritative federal data, with data, metadata, and map services.

1.3 BOEM Intergovernmental Renewable Energy Task Forces

BOEM has established multiple Task Forces to facilitate coordination among relevant Federal agencies and affected state, local, and tribal governments throughout the leasing process. Task Forces for New Jersey and New York were previously established in 2009 and 2010, respectively, and will continue to be engaged during the planning and leasing process for the New York Bight OCS area. This engagement includes joint Task Force activities, such as the webinar for the New York Bight that was held on December 4, 2017. Meeting materials for these two Task Forces are available on the BOEM website at: https://www.boem.gov/NY-Bight/.

2 Environmental Review Process

Prior to deciding whether and where leases may be issued, BOEM will prepare an environmental assessment (EA) and conduct consultations to consider the environmental consequences associated with issuing commercial wind leases within all or some of the Call Areas. The EA will consider the reasonably foreseeable environmental consequences associated with leasing, such as site characterization activities (including geophysical, geotechnical, archaeological, and biological surveys). BOEM would consider the environmental effects of the construction or operation of any wind energy facility under a separate, project-specific National Environmental Policy Act (NEPA) process, which would include additional opportunities for public involvement. BOEM would also conduct several consultations concurrently with, and integrated into, the NEPA process. These consultations would include, but are not limited to, those required by the Coastal Zone Management Act (CZMA), the Endangered Species Act (ESA), the Magnuson-Stevens Fishery Conservation and Management Act, Section 106 of the National Historic Preservation Act (NHPA), and Executive Order 13175—“Consultation and Coordination with Tribal Governments.”

3 Actions Taken by the State of New York in Support of Offshore Renewable Energy Development

The State of New York has a stated goal of developing 2.4 GW of offshore wind energy by 2030. To facilitate this effort, NYSERDA has spearheaded the development of the New York Offshore Wind Master Plan (the Master Plan https://www.nyserda.ny.gov/All-Programs/Programs/Offshore-Wind/New-York-Offshore-Wind-Master-Plan), a comprehensive roadmap to advance offshore wind energy development in New York. The objective of New York's Master Plan is to “to ensure that offshore wind in New York is developed in the most responsible and cost-effective manner possible.” To support the Master Plan, NYSERDA has conducted more than 20 studies and engaged with stakeholders and the public with the stated objective of ensuring that offshore wind is developed thoughtfully, responsibly, and cost-effectively.

On October 2, 2017, BOEM received the State of New York's Area for Consideration. This document identifies an area of the New York Bight that the State has determined, based on its compilation and analysis of scientific, stakeholder and analytical data, to be most desirable for future offshore wind development. BOEM has taken the State's recommendation into account in designating areas for this Call, and will consider the data and analyses generated by the State at subsequent stages of its planning and leasing process in the New York Bight area.

4 BOEM's Planning and Leasing Process

4.1 Determination of Competitive Interest

As stated in 43 U.S.C. 1337(p)(3), “the Secretary shall issue a lease, easement, or right-of-way . . . on a competitive basis unless the Secretary determines after public notice of a proposed lease, easement, or right-of-way that there is no competitive interest.” The first step in BOEM's leasing process is therefore to determine whether or not there is any competitive interest in acquiring a lease within the Call Areas for the purpose of offshore wind development. At the same time, BOEM will determine whether there is overlapping interest in any particular portion of the Call Areas that would result in the need for a competitive process. At the conclusion of the comment period for this Call, BOEM will review the nominations received and determine whether competitive interest exists in any specific locations within the Call Areas. After the close of the Call comment period, if BOEM determines that competitive interest exists for one or more portions of the Call Area, you will be able to submit a bid in a potential future competitive lease sale for those portions of the Call Area even if you did not submit a nomination in response to this Call.

For any portions of the Call Area, but particularly portions with two or more valid nominations, BOEM may consider proceeding with competitive leasing as described in the section of this Call entitled, “Competitive Leasing Process.” For areas where BOEM determines that there is a single interested entity, but only one valid nomination, BOEM may consider proceeding with noncompetitive leasing, as described in the section entitled, “Noncompetitive Leasing Process.”

Respondents to this Call and members of the public should be aware that BOEM will not issue any leases until it has completed the necessary consultations and environmental analysis and given the public an opportunity to comment. BOEM reserves the right not to lease certain nominated areas, or modify such areas from their original, proposed form before offering them for lease.

4.2 Competitive Leasing Process

If, after receiving responses and nominations to this Call, BOEM proceeds with the competitive leasing process for certain areas, it will follow the steps required by 30 CFR 585.211 through 585.225.

(1) Area Identification: Based on the information it receives in response to this Call, BOEM will determine the level of commercial interest and identify the area(s) that would be appropriate to analyze for potential leasing. The area(s) identified will constitute a Wind Energy Area(s) (WEA) and will be subject to environmental analysis as described above, in consultation with appropriate Federal agencies, states, local governments, tribes, and other interested parties.

(2) Proposed Sale Notice (PSN): If BOEM decides to proceed with a competitive lease sale within the WEAs after completion of the environmental analysis, BOEM will publish a PSN in the Federal Register with a comment period of 60 days. The PSN will describe the area(s) to be offered for leasing, the proposed conditions of a lease sale, and the proposed auction format, lease document, including application addenda. Additionally, the PSN will describe the criteria and process for evaluating bids in the lease sale.

(3) Final Sale Notice (FSN): After considering the comments on the PSN, if BOEM decides to continue to proceed with a competitive lease sale, it will publish the FSN in the Federal Register at least 30 days before the date of the lease sale.

(4) Bid Submission and Evaluation: Following publication of a FSN in the Federal Register, BOEM would offer the lease areas through a competitive sale process, using procedures specified in the FSN. The conduct of the sale, including bids and bid deposits, would be reviewed for technical and legal adequacy. BOEM will ensure that bidders have complied with all applicable regulations. BOEM reserves the right to reject any or all bids and/or withdraw an offer to lease an area, even after bids have been submitted.

(5) Issuance of a Lease: Following the selection of a winning bid(s) by BOEM, the successful bidder(s) would be notified of the decision and provided a set of official lease documents for execution. The successful bidder(s) would be required to sign and return the lease, pay the remainder of the bonus bid, if applicable, and file the required financial assurance within 10 days of receiving the lease documents. Upon receipt of the required payments, financial assurance, and properly signed lease forms, BOEM would execute a lease with the successful bidder(s).

4.3 Noncompetitive Leasing Process

(1) Determination of No Competitive Interest: If, after evaluating the responses to this Call, BOEM determines that there is only one respondent interested in a particular area and therefore no competitive interest, BOEM would publish a notice of Determination of No Competitive Interest in the Federal Register, and could proceed with the noncompetitive lease issuance process pursuant to 30 CFR 585.232. If BOEM decides to proceed with this process, it will ask the sole respondent who nominated a particular area if it wants to lease the area by submitting an acquisition fee, as specified in 30 CFR 585.502(a). If it receives the acquisition fee, BOEM will follow the process outlined in 30 CFR 585.231(d) through (i).

(2) Review of Lease Request: BOEM will comply with the requirements of OCSLA, NEPA, CZMA, ESA, NHPA, and other applicable Federal statutes before issuing a lease noncompetitively. BOEM will coordinate and consult with relevant Federal agencies, affected tribes, and affected state and local governments in formulating lease terms, conditions, and stipulations, as appropriate.

(3) Lease Issuance: After completing its review of the lease request, BOEM may offer a noncompetitive lease. Within 10 days of receiving the lease, the lessee must execute it and provide a $100,000 lease-specific bond. Within 45 days of receiving the lease, the lessee must pay BOEM the first 12 months' rent.

5 Development of the Call Areas

BOEM delineated the Call Areas in consultation with several parties and information sources, including the State of New York (including through its Area for Consideration document), and the Intergovernmental Renewable Energy Task Force for the New York Bight. The areas selected are intended to identify portions of the OCS for further analysis and to solicit information and nominations so that potential use conflicts can be analyzed and considered in the Area Identification process. BOEM's future analysis during Area Identification will evaluate the Call Areas for their appropriateness for offshore wind development, balanced against potential ocean user conflicts. After environmental reviews and associated consultations, public comments, and continued coordination with other government agencies through the BOEM Intergovernmental Renewable Energy Task Forces, BOEM anticipates developing and applying terms and conditions—including any measures necessary to mitigate impacts—at the leasing, site assessment, and/or construction and operations phases.

On October 2, 2017, NYSERDA submitted to BOEM its Area for Consideration document. The document specifically identifies two areas in the Atlantic Ocean south of Long Island that the State of New York asked BOEM to consider as potential Call Areas. The State of New York's identification of these areas was informed by over 20 scientific studies commissioned by the State of New York in consultation with BOEM and numerous Federal and state resource agencies. The State of New York concluded that the areas identified in their Area for Consideration document presented “the fewest conflicts with ocean users, resources, infrastructure, and wildlife, and has the greatest potential for cost-effective development of offshore wind energy to meet [their] goals.” The State recommended that BOEM “expeditiously consider this submission, and then delineate and lease at least four new WEAs within the Area for Consideration, each capable of siting at least 800 MW of offshore wind.” For more information, please refer to: https://www.nyserda.ny.gov/All-Programs/Programs/Offshore-Wind/New-York-Offshore-Wind-Master-Plan/Area-for-Consideration. The New Jersey Department of Environmental Protection has noted that the development of the Area of Consideration document did not involve consultation with state elected officials, the New Jersey Task Force, or New Jersey state agencies.

The Call Areas outlined in this document contain the areas identified in the Area for Consideration document submitted by the State of New York, but also include the initial, more expansive areas initially identified in New York's Area for Consideration document. Many of the factors used to delineate New York's Area for Consideration were informed by a series of draft studies, which the State of New York finalized and published after it issued its recommendations; BOEM believes the final studies should be evaluated prior to modifying the initial areas identified by New York. This Call will allow additional stakeholders, including other potentially affected states, to provide input on these areas prior to further modification during the Area Identification process. For context, please note that approximately 18% of the Call Areas presented in this document would need to be identified as WEAs to meet the State of New York's request for four 800 MW lease areas (assuming a power density ratio of 0.01 MW per acre); however, BOEM may identify more or less of the Call Area for leasing after considering stakeholder comments.

BOEM will consider a wide range of information regarding potential use conflicts within the Call Areas and the areas' suitability for offshore wind development, but is particularly sensitive to—and interested in information regarding—the following issues:

5.1 Fisheries

BOEM is soliciting information regarding the use of the areas included in this Call as a fishery. BOEM recognizes that several commercial and recreational fisheries operate in the Call Areas, including, but not limited to: Butterfish, Atlantic mackerel, Atlantic sea scallop, Atlantic surfclam and ocean quahog, longfin and Illex squid, monkfish, Northeast multispecies, summer flounder, scup, and black sea bass fisheries. BOEM also acknowledges that representatives from the fishing industry have already provided comments and information to NYSERDA regarding fishing in the states Offshore Study Area. BOEM will consider that information at the Area Identification stage of its planning process. BOEM is also aware that several areas identified by the New Jersey Department of Environmental Protection's Sport Ocean Fishing Grounds atlas are within the Call Areas. These areas include Yankee Spot, Mako Hotel, George's Bank, Bacardi, Triple Wrecks North, Texas Tower, The Slough, Little Italy, Yellowfin Lump, North East Lump, Mako Hole, The Fingers, Resor Wreck, Dusky Hole, Triple Wrecks South, The Bomb, and Glory Hole. BOEM is requesting additional information regarding recreational and commercial fisheries that operate within these Call Areas, including, but not limited to, the use of the area for recreational tuna and marlin tournaments, the fishing gear types used, seasonal uses, and suggestions for reducing use conflicts.

If BOEM concludes that fisheries conflicts cannot be properly mitigated in certain portions of the Call Areas, it may exclude those areas from leasing at the Area Identification stage, during the environmental review process conducted under NEPA, and/or as a result of essential fish habitat consultations under the Magnuson-Stevens Fishery Conservation and Management Act. BOEM may also require measures to mitigate or avoid fishery conflicts at the construction and operations phase of its regulatory process.

Although BOEM has largely erred on the side of inclusion of areas at this early stage in its process, it has accepted the recommendation in the State of New York's Area for Consideration document to exclude from the Call Areas the Hudson Canyon Scallop Rotational Area defined in 50 CFR 648.60(a)(4).

5.2 Avian Species

BOEM attempts to avoid leasing areas with high concentrations of marine bird species that may be most impacted by offshore wind development. BOEM's preliminary analyses suggest, however, that the Call Areas do not contain high concentrations of such marine birds. These preliminary analyses were based on maps created from an ongoing BOEM/NOAA study entitled, “Integrative Statistical Modeling and Predictive Mapping of Seabird Distribution and Abundance on the Atlantic Outer Continental Shelf,” which can be found at http://www.boem.gov/AT-13-03/. These maps are publically available at http://www.northeastoceandata.org/data-explorer/?birds. However, more recent maps from the study suggest that the Hudson South Call Area may have relatively high concentrations of Northern Gannets in winter (unpublished, Atlantic Marine Bird Mapping Statistical Model Predictions Release version 2.0). This finding appears to be confirmed by the high resolution aerial surveys that the State of New York conducted in the winter of 2017 (https://remote.normandeau.com/portal_data.php?public=1), and supported by observations in a satellite tracking study available at https://www.boem.gov/BOEM-2017-069/. Lastly, during the fall survey in 2017, a roseate tern (listed as endangered under ESA) was identified just north of the Fairways North Call Area. BOEM will further analyze and assess available avian data as part of its Area Identification process.

5.3 Marine Protected Species

Various marine protected species utilize the New York Bight in the vicinity of the Call Areas, including marine mammals, sea turtles, and Atlantic sturgeon. All marine mammal species are protected under the Marine Mammal Protection Act, while certain whale species (including the North Atlantic right whale), all sea turtles species, and the Atlantic sturgeon are afforded additional protections as listed species under the Endangered Species Act (ESA). While ESA-listed species are known to be present in the Call Areas, they do not contain National Marine Fisheries Service (NMFS)-designated critical habitat for any ESA-listed species.

The Atlantic Marine Assessment Program for Protected Species study data show that several species may utilize the habitats in the Call Areas for feeding, resting, migrating, and communication (https://www.nefsc.noaa.gov/psb/AMAPPS/). BOEM's preliminary analyses suggest that the continental shelf edge and slope (located generally at or near the 200 m contour) contain the greatest densities and species diversity of marine mammals compared to less frequent occurrences over the continental shelf regions, where the Call Areas are located (http://seamap.env.duke.edu/). The exception is harbor porpoises, which are a species that is commonly found in high numbers over the continental shelf in the winter and spring. The available data further indicates the presence of endangered North Atlantic right whales primarily in the Call Areas during the late fall and winter seasons, while endangered and threatened sea turtles are highly migratory species that seasonally utilize the continental shelf, including the Call Areas, for foraging. The initial data collected in recent surveys by the State of New York's high resolution aerial surveys conducted in 2017 also confirms marine mammal and sea turtle sightings of various species in the Call Areas (https://remote.normandeau.com/portal_data.php?public=1).

In addition to marine mammals and sea turtles, five Distinct Population Segments of the Atlantic sturgeon, an ESA-listed marine fish, likely occur in the New York Bight. The occurrence of Atlantic sturgeon in the New York Bight has been well documented through fisheries bycatch information, New York bottom trawl sub-adult Atlantic sturgeon surveys, a variety of tagging studies, and more recently through an offshore telemetry study funded by BOEM and the New York Department of Environmental Conservation (see: https://www.boem.gov/Atlantic-Fish-Telemetry-Monitoring/). Atlantic sturgeon may use the Call Areas as overwintering and foraging areas. These data, as well as ongoing passive acoustic efforts by the Wildlife Conservation Society's New York Aquarium and the Woods Hole Oceanographic Institution, will provide additional information for BOEM's consideration during the Area Identification process.

BOEM will utilize information received in response to the Call to assist with its verification of any migratory periods, persistent or seasonally occurring oceanic habitat features associated with the presence of protected marine mammals, sea turtles, and fish, periods of high species abundance or diversity that may occur within the Call Areas. BOEM also seeks any additional information regarding the use of the Call Areas by Atlantic sturgeon, including specific known overwintering habitats, such as holes or troughs adjacent to shoals where Atlantic sturgeon are regularly encountered, as well as the time of year when those encounters are most likely to occur.

BOEM will consider all the best available information to identify and assess potential areas of conflict with marine protected species within the Call Areas and consult with resource agencies during the Area Identification process, as necessary.

5.4 Navigation

Portions of the Call Areas are regularly trafficked by multiple types of vessels entering and leaving ports in New Jersey and New York, based on BOEM's preliminary analysis of Automatic Identification System (AIS) data between 2010-2012, and the State of New York's analysis of 2013 AIS data as part of its Area for Consideration document. Portions of the Call Areas are also used by cargo and tanker vessels transiting between Delaware Bay and Chesapeake Bay ports to eastern Long Island and southeastern New England. A majority of the vessels transiting the Call Areas are cargo ships and tankers. Other types of vessels using the area include tug and barge, passenger, military, recreational, and commercial fishing. AIS data used to conduct this analysis, in addition to other AIS tools, can be downloaded at www.marinecadastre.gov/AIS.

BOEM excluded the following portions of the OCS from the Call Area based on the State of New York's Navigation Study recommendations:

• Between the Hudson North and Hudson South Call Areas, an area 30 nmi in length and approximately 15 nmi wide from the entrance/exit of the New York Southeastern Approach (Hudson Canyon to Ambrose and Ambrose to Hudson Canyon traffic lanes).

• All sub-blocks that overlap with a 1 nmi buffer along all outer edges of traffic lanes, shipping safety fairways, and the above-mentioned 30 nmi delineated area.

BOEM coordinates with the U.S. Coast Guard (USCG) on navigational issues and will continue its engagement throughout all phases of its regulatory process. In 2015, as an outcome of its Atlantic Coast Port Access Route Study, USCG issued Marine Planning Guidelines (MPG), which recommends a 2 nmi parallel buffer between the outer or seaward boundary of a traffic lane and offshore structures, and a 5 nmi buffer for a Traffic Separation Scheme entry or exit. USCG has stated that these buffers are guidelines, and has acknowledged that navigational risks can be mitigated on a project-by-project basis, pending more detailed analysis following the lessee's submission of a Navigational Safety Risk Assessment at the construction and operations phase of BOEM's regulatory process. Pending the outcome of future analysis, BOEM may not offer some portions of the Call Areas for leasing or development based on information provided in response to during the Call regarding safety concerns and historic routes of vessel traffic.

BOEM is also seeking information regarding the following:

• Commercial Vessel Port-to-Port or Port-to-Fishing Location Transit. AIS data suggest the existence of historic transit corridors through the Call Areas between Chesapeake Bay ports and New York/Newark ports; Delaware Bay and Chesapeake Bay to smaller ports, such as Buzzards Bay, MA; Providence, RI; and Long Island East, NY.

• Recreational Port-to-Port Transit. The State of New York identified an Annapolis, MD to Newport, RI distance sailing race route through its offshore wind study area. BOEM seeks information on other races or other recreational port-to-port transit routes.

5.5 Department of Defense and United States Coast Guard Training Areas

The Department of Defense (DoD) conducts offshore testing, training, and operations within portions of the Call Areas. BOEM refined the Call Areas based on the most recent DoD assessment of compatibility between commercial offshore wind development and DoD testing, training and operations. BOEM excluded from consideration all OCS blocks that DoD has determined to be incompatible.

BOEM is working with DoD to update the offshore wind compatibility assessment for the Atlantic that identifies wind energy exclusion areas and those OCS blocks that may require site-specific conditions and stipulations to ensure offshore wind facilities are compatible with DoD activities. These stipulations could include, but may not be limited to: Hold and save harmless agreements; mandatory coordination with DoD on specified activities; restrictions on electromagnetic emissions; and evacuation procedures from the lease area for safety reasons when notified by the DoD. BOEM may remove from leasing consideration any OCS blocks identified as incompatible in DoD's updated compatibility assessment.

Interested parties should also be aware that the Call Areas contain some OCS blocks that have never been assessed by DoD, but will be included in the updated compatibility assessment. These OCS blocks and/or portions thereof include:

Protraction name | Protraction No. | Block No. | Sub-block
New York | NK18-12 | 6233 | D.
Hudson Canyon | NJ18-03 | 6306 | M.
Hudson Canyon | NJ18-03 | 6356 | A, E, I, J, M, N.
Hudson Canyon | NJ18-03 | 6406 | A, B, E, F, I, J, K, M, N, O.
Hudson Canyon | NJ18-03 | 6455 | D, H, L, P.
Hudson Canyon | NJ18-03 | 6456 | A, B, C, E, F, G, H, I, J, K, L, M, N, O, P.
Hudson Canyon | NJ18-03 | 6505 | D, G, H, K, L, O, P.
Hudson Canyon | NJ18-03 | 6506 | All.
Hudson Canyon | NJ18-03 | 6507 | A, E, I, M, N.
Hudson Canyon | NJ18-03 | 6555 | C, D, G, H, K, L, O, P.
Hudson Canyon | NJ18-03 | 6556 | All.
Hudson Canyon | NJ18-03 | 6557 | A, B, E, F, I, J, M, N, O.
Hudson Canyon | NJ18-03 | 6605 | B, C, D, F, G, H, J, K, L, N, O, P.
Hudson Canyon | NJ18-03 | 6606 | All.
Hudson Canyon | NJ18-03 | 6607 | A, B, C, E, F, G, I, J, K, L, M, N, O, P.
Hudson Canyon | NJ18-03 | 6655 | B, C, D, F, G, H, J, K, L, N, O, P.
Hudson Canyon | NJ18-03 | 6656 | All.
Hudson Canyon | NJ18-03 | 6657 | All.
Hudson Canyon | NJ18-03 | 6658 | E, I, M.
Hudson Canyon | NJ18-03 | 6705 | B, C, D, F, G, H, J, K, L, N, O, P.
Hudson Canyon | NJ18-03 | 6706 |
Hudson Canyon | NJ18-03 | 6707 |
Hudson Canyon | NJ18-03 | 6708 | A, B, E, F, I, J, M, N, O.
Hudson Canyon | NJ18-03 | 6755 | B, C, D, F, G, H, J, K, L, N, O, P.
Hudson Canyon | NJ18-03 | 6756 | All.
Hudson Canyon | NJ18-03 | 6757 | All.
Hudson Canyon | NJ18-03 | 6758 | A, B, C, E, F, G, I, J, K, M, N, O, P.
Hudson Canyon | NJ18-03 | 6805 | B, C, D, F, G, H, J, K, L, N, O, P.
Hudson Canyon | NJ18-03 | 6806 | All.
Hudson Canyon | NJ18-03 | 6807 | All.
Hudson Canyon | NJ18-03 | 6808 | All.
Hudson Canyon | NJ18-03 | 6809 | I, M.
Hudson Canyon | NJ18-03 | 6855 | B, C, D, F, G, H, J, K, L, N, O, P.
Hudson Canyon | NJ18-03 | 6856 | All.
Hudson Canyon | NJ18-03 | 6857 | All.
Hudson Canyon | NJ18-03 | 6858 | All.
Hudson Canyon | NJ18-03 | 6859 | A, E, F, I, J, M, N.

The USCG Sector New York identified the northern portion of the Hudson South Call Area as an unofficially designated weapons training range for maintaining law enforcement proficiency. They requested that this area be given consideration as an existing use. These OCS blocks and/or portions thereof include:

Protraction name | Protraction No. | Block No. | Sub-block
New York | NK18-12 | 6854 | H, L, P.
New York | NK18-12 | 6855 | I, M.
New York | NK18-12 | 6904 | D, H, L.
New York | NK18-12 | 6905 | A, B, E, F, G, I, J, K, L, N, O, P.
New York | NK18-12 | 6954 | G, K, L, O, P.
New York | NK18-12 | 6955 | I, M, N.
New York | NK18-12 | 7004 | C, D.

5.6 Bathymetric Conditions

The 60m water depth is a reasonable estimate of the maximum limit for likely development of utility scale fixed foundation projects at the present time. The National Renewable Energy Laboratory's (NREL) 2016 assessment of US offshore wind potential identifies three categories of foundation types based on water depth: 0-30 meters for gravity base or monopiles, 30 to 60 meters for jackets or tripods, and 60 meters or greater for floating structures. However, BOEM is aware of nascent floating foundation technology that has been deployed on a limited basis in water deeper than 60m, and new support structure technologies are continually under development. Given the likelihood of continued technological advancement in the offshore wind industry in terms of foundation design, materials use, and turbine efficiency, BOEM requests comment on the appropriateness of the 60m water depth contour as a factor delineating the Call Areas.

5.7 Visual Impacts

The New Jersey and New York coastlines to the north and west of the Call Areas contain various natural areas, lighthouses, beaches, and other public spaces. These coastlines also contain numerous National Historic Landmarks (NHLs) and historic properties listed in, or eligible for listing in, the National Register of Historic Places. Additionally, two units of the National Park Service, Fire Island National Seashore (Fire Island) and Gateway National Recreation Area (Gateway) are located in the vicinity of the Call Areas. Fire Island was established by Congress to preserve the beaches, dunes, and other natural resources within Suffolk County, New York, and is also a designated Wilderness Area. Gateway was established to preserve natural and recreational resources in and around Staten Island, Long Island, and northern New Jersey.

BOEM previously consulted with stakeholders regarding viewshed concerns and completed a study entitled, “Renewable Energy Viewshed Analysis and Visualization Simulation for the New York Outer Continental Shelf Call Area” (https://www.boem.gov/New-York-Visual-Simulations), during the Area Identification process for the New York WEA designated on March 16, 2016 and later refined into what is now Lease OCS-A 0512 (https://www.boem.gov/OCS-A-0512/). This study included a meteorological assessment, viewshed analysis, and photographic documentation of a hypothetical commercial wind facility from a series of publicly accessible key observations points. The National Park Service (NPS), New York State Historic Preservation Office (NY SHPO), and New Jersey State Historic Preservation Office (NJ SHPO) each expressed concern regarding the potential for visual impacts to NHLs and other onshore historic properties from renewable energy development within the New York Bight, including portions of the Call Areas. Additionally, NPS expressed concern that development within these areas could negatively impact historic and natural resources within Fire Island and Gateway, particularly with respect to the aircraft and vessel collision avoidance safety lighting to adversely affect the natural darkness, night sky, and ocean views.

The State of New York initially excluded areas within 15 nmi (17.3 statute miles) of shore from its Area for of Consideration document in order to reduce potential visual impacts to onshore areas. Based on the results of BOEM's visual simulation study and additional outreach conducted by the State of New York, the state limited its Area for Consideration document to include areas at least 20 statute miles (17.4 nautical miles) from shore. BOEM has elected to use the State's initial 15 nmi limit at this preliminary stage, and seeks further stakeholder feedback regarding viewshed concerns in response to this Call—including specific concerns about potential impacts to the landscape or seascape of coastal areas of New York and/or New Jersey, as well as potential mitigation measures.

5.8 Cables and Other Existing Infrastructure

As discussed in the Area for Consideration document, the Call Areas contain a significant number of fiber-optic and electrical transmission cables traversing the seabed, as well as other existing infrastructure, such as natural gas pipelines. If BOEM ultimately leases portions of the Call Areas that contain existing infrastructure, lessees may need to develop site-specific crossing and proximity agreements with applicable infrastructure owners, per BOEM's Construction Operation Plan Guidance-Attachment H: Coordination Efforts Relating to Existing Telecommunications Cables.

6 Description of the Area

The Call Areas described in this notice are located on the OCS in the New York Bight and are delineated as Fairways North, Fairways South, Hudson North, and Hudson South. The four Areas include 222 whole OCS blocks and 172 partial blocks in total, and comprise approximately 2,047 square nmi (702,192 hectares). A map of the Call Areas, and associated GIS files, which are located in UTM Zone 18 and UTM Zone 19, NAD83 Datum, can be found at the following URL: https://www.boem.gov/NY-Bight/.

6.1 Call Area Fairways North

The boundary of Call Area Fairways North begins 15 nmi offshore and is parallel to the coast. The area is 15 nmi from both South Hampton, New York and Montauk, New York. The area is about 46 nmi in length from east to west and at its widest point is about 11nmi from north to south. Respondents should be aware that New York NK18-12 Blocks 6233, 6283, 6333, 6383, 6433 and Block Island Shelf NK19-10 Blocks 6202, 6252, 6302, 6352, 6402 border the edge of Universe Transverse Mercator (UTM) Zones 18 and 19. As a result, while these blocks are considered full OCS lease blocks, they vary in area and are smaller than standard OCS blocks. Official acreages for the blocks located within Official Protraction Diagrams (OPD) New York NK18-12 and Block Island Shelf NK19-10 can be found at: https://www.boem.gov/Oil-and-Gas-Energy-Program/Mapping-and-Data/NK18-12-01-MAY-2006.aspx and https://www.boem.gov/Oil-and-Gas-Energy-Program/Mapping-and-Data/NK19-10-01-MAY-2006.aspx.

The entire area is approximately 250 square nmi (85,728 hectares) and is described in the table below:

Protraction name | Protraction No. | Block No. | Sub-block
New York | NK18-12 | 6233 | P.
New York | NK18-12 | 6281 | P.
New York | NK18-12 | 6282 | H, J, K, L, M, N, O, P.
New York | NK18-12 | 6283 | B, C, D, E, F, G, H, I, J, K, L, M, N, O, P.
New York | NK18-12 | 6330 | K, L, M, N, O, P.
New York | NK18-12 | 6331 | B, C, D, E, F, G, H, I, J, K, L, M, N, O, P.
New York | NK18-12 | 6332 | All.
New York | NK18-12 | 6333 | All.
New York | NK18-12 | 6378 | K, L, M, N, O, P.
New York | NK18-12 | 6379 | C, D, E, F, G, H, I, J, K, L, M, N, O, P.
New York | NK18-12 | 6380 | All.
New York | NK18-12 | 6381 | All.
New York | NK18-12 | 6382 | All.
New York | NK18-12 | 6383 | All.
New York | NK18-12 | 6425 | O, P.
New York | NK18-12 | 6426 | H, I, J, K, L, M, N, O, P.
New York | NK18-12 | 6427 | B, C, D, E, F, G, H, I, J, K, L, M, N, O, P.
New York | NK18-12 | 6428 | All.
New York | NK18-12 | 6429 | A, B, C, D, E, F, G, H, I, J, K, L, M, N.
New York | NK18-12 | 6430 | A, B, C, D, E, F, G, H, I, J, K, L.
New York | NK18-12 | 6431 | A, B, C, D, E, F, G, H, I, J, K, L.
New York | NK18-12 | 6432 | A, B, C, D, E, F, G, H, I, J, K, L.
New York | NK18-12 | 6433 | A, B, C, D, E, F, G, H, I.
New York | NK18-12 | 6474 | D.
New York | NK18-12 | 6475 | A.
Block Island Shelf | NK19-10 | 6058 | O, P.
Block Island Shelf | NK19-10 | 6059 | M.
Block Island Shelf | NK19-10 | 6107 | L, M, N, O, P.
Block Island Shelf | NK19-10 | 6108 | B, C, D, E, F, G, H, I, J, K, L, M, N, O, P.
Block Island Shelf | NK19-10 | 6109 | A, E, F, I, J, M.
Block Island Shelf | NK19-10 | 6154 | O, P.
Block Island Shelf | NK19-10 | 6155 | H, I, J, K, L, M, N, O, P.
Block Island Shelf | NK19-10 | 6156 | C, D, E, F, G, H, I, J, K, L, M, N, O, P.
Block Island Shelf | NK19-10 | 6157 | A, B, E, F, I, J, M.
Block Island Shelf | NK19-10 | 6158 | A.
Block Island Shelf | NK19-10 | 6202 | L, M, N, O, P.
Block Island Shelf | NK19-10 | 6203 | F, G, H, I, J, K, L, M, N, O, P.
Block Island Shelf | NK19-10 | 6204 | All.
Block Island Shelf | NK19-10 | 6205 | All.
Block Island Shelf | NK19-10 | 6206 | All.
Block Island Shelf | NK19-10 | 6207 | All.
Block Island Shelf | NK19-10 | 6252 | All.
Block Island Shelf | NK19-10 | 6253 | All.
Block Island Shelf | NK19-10 | 6254 | All.
Block Island Shelf | NK19-10 | 6255 | All.
Block Island Shelf | NK19-10 | 6256 | A, B, C, D, E, F, G, H, I, J, K, L, M, N, O.
Block Island Shelf | NK19-10 | 6302 | All.
Block Island Shelf | NK19-10 | 6303 | All.
Block Island Shelf | NK19-10 | 6304 | All.
Block Island Shelf | NK19-10 | 6305 | All.
Block Island Shelf | NK19-10 | 6306 | A, B, C, E, F, I, M.
Block Island Shelf | NK19-10 | 6352 | All.
Block Island Shelf | NK19-10 | 6353 | All.
Block Island Shelf | NK19-10 | 6354 | A, B, C, D, E, F, G, H, I, J, K, L, M, N, O.
Block Island Shelf | NK19-10 | 6355 | A, B, C, D, E, F, G, H, I, J, K.
Block Island Shelf | NK19-10 | 6402 | A, B, C, D, E, F, G, H.
Block Island Shelf | NK19-10 | 6403 | A, B, C, D, E, F, G, H.
Block Island Shelf | NK19-10 | 6404 | A, B, C.

Call Area Fairways South

The boundary of Call Area Fairways South begins at 15 nmi offshore Fire Island National Seashore in New York. The area is about 43nmi in length from east to west and about 4 nmi in width from north to south. The entire area is approximately 126.4 square nmi (43,344 hectares) and is described in the table below:

Protraction name | Protraction No. | Block No. | Sub-block
New York | NK18-12 | 6526 | O, P.
New York | NK18-12 | 6527 | M, N, O, P.
New York | NK18-12 | 6528 | M, N, O, P.
New York | NK18-12 | 6529 | M, N, O, P.
New York | NK18-12 | 6530 | K, L, M, N, O, P.
New York | NK18-12 | 6531 | I, J, K, L, M, N, O, P.
New York | NK18-12 | 6532 | I, J, K, L, M, N, O.
New York | NK18-12 | 6568 | O, P.
New York | NK18-12 | 6569 | G, H, I, J, K, L, M, N, O, P.
New York | NK18-12 | 6570 | E, F, G, H, I, J, K, L, M, N, O, P.
New York | NK18-12 | 6571 | E, F, G, H, I, J, K, L, M, N, O, P.
New York | NK18-12 | 6572 | C, D, E, F, G, H, I, J, K, L, M, N, O, P.
New York | NK18-12 | 6573 | All.
New York | NK18-12 | 6574 | All.
New York | NK18-12 | 6575 | All.
New York | NK18-12 | 6576 | All.
New York | NK18-12 | 6577 | All.
New York | NK18-12 | 6578 | All.
New York | NK18-12 | 6579 | All.
New York | NK18-12 | 6580 | A, B, C, D, E, F, G, H, I, J, K, L, M, N, O.
New York | NK18-12 | 6581 | A, B, C, D, E, F, G, H, I, J, K, L.
New York | NK18-12 | 6582 | A, B, C, D, E, F, G, H, I.
New York | NK18-12 | 6616 | K, L.
New York | NK18-12 | 6617 | D, E, F, G, H, I, J, K, L.
New York | NK18-12 | 6618 | A, B, C, D, E, F, G, H, I, J, K, L.
New York | NK18-12 | 6619 | A, B, C, D, E, F, G, H.
New York | NK18-12 | 6620 | A, B, C, D, E, F, G, H.
New York | NK18-12 | 6621 | A, B, C, D, E, F, G, H.
New York | NK18-12 | 6622 | A, B, C, D, E, F, G, H.
New York | NK18-12 | 6623 | A, B, C, D.
New York | NK18-12 | 6624 | A, B, C, D.
New York | NK18-12 | 6625 | A, B, C, D.
New York | NK18-12 | 6626 | A, B, C, D.

Call Area Hudson North

The boundary of Call Area Hudson North begins at about 20 nmi from shore, the closest coastal location being Robert Moses State Park in New York. Jones Beach State Park in New York is about 25 nmi from the area. The area is about 47 nmi in length from east to west and about 30 nmi in width from north to south. The entire area is approximately 696.9 square nmi (239,040 hectares) and is described in the table below:

Protraction name | Protraction No. | Block No. | Sub-block
Hudson Canyon | NJ18-03 | 6018 | D.
Hudson Canyon | NJ18-03 | 6019 | A, B, C, D, E, F, G, H, J, K, L, O, P.
Hudson Canyon | NJ18-03 | 6020 | All.
Hudson Canyon | NJ18-03 | 6021 | All.
Hudson Canyon | NJ18-03 | 6022 | All.
Hudson Canyon | NJ18-03 | 6023 | A, B, E.
Hudson Canyon | NJ18-03 | 6069 | D.
Hudson Canyon | NJ18-03 | 6070 | A, B, C, D, E, F, G, H, J, K, L, O, P.
Hudson Canyon | NJ18-03 | 6071 | All.
Hudson Canyon | NJ18-03 | 6072 | A, B, C, D, E, F, I, J, M.
Hudson Canyon | NJ18-03 | 6120 | D.
Hudson Canyon | NJ18-03 | 6121 | A, B, C, D, E, F, G, H, K, L.
Hudson Canyon | NJ18-03 | 6122 | A.
New York | NK18-12 | 6678 | M, N, O, P.
New York | NK18-12 | 6679 | M, N, O, P.
New York | NK18-12 | 6716 | N, O, P.
New York | NK18-12 | 6717 | I, J, K, L, M, N, O, P.
New York | NK18-12 | 6718 | I, J, K, L, M, N, O, P.
New York | NK18-12 | 6719 | I, J, K, L, M, N, O, P.
New York | NK18-12 | 6720 | E, F, G, H, I, J, K, L, M, N, O, P.
New York | NK18-12 | 6721 | E, F, G, H, I, J, K, L, M, N, O, P.
New York | NK18-12 | 6722 | E, F, G, H, I, J, K, L, M, N, O, P.
New York | NK18-12 | 6723 | E, F, G, H, I, J, K, L, M, N, O, P.
New York | NK18-12 | 6724 | All.
New York | NK18-12 | 6725 | All.
New York | NK18-12 | 6726 | All.
New York | NK18-12 | 6727 | All.
New York | NK18-12 | 6728 | All.
New York | NK18-12 | 6729 | All.
New York | NK18-12 | 6730 | E, I, J, K, M, N.
New York | NK18-12 | 6764 | L, O, P.
New York | NK18-12 | 6765 | C, D, E, F, G, H, I, J, K, L, M, N, O, P.
New York | NK18-12 | 6766 | All.
New York | NK18-12 | 6767 | All.
New York | NK18-12 | 6768 | All.
New York | NK18-12 | 6769 | All.
New York | NK18-12 | 6770 | All.
New York | NK18-12 | 6771 | All.
New York | NK18-12 | 6772 | All.
New York | NK18-12 | 6773 | All.
New York | NK18-12 | 6774 | All.
New York | NK18-12 | 6775 | All.
New York | NK18-12 | 6776 | All.
New York | NK18-12 | 6777 | All.
New York | NK18-12 | 6778 | All.
New York | NK18-12 | 6779 | A, B, C, D, E, F, G, H, I, J, K, L, M, N, O.
New York | NK18-12 | 6780 | A.
New York | NK18-12 | 6813 | K, L, O, P.
New York | NK18-12 | 6814 | B, C, D, E, F, G, H, I, J, K, L, M, N, O, P.
New York | NK18-12 | 6815 | All.
New York | NK18-12 | 6816 | All.
New York | NK18-12 | 6817 | All.
New York | NK18-12 | 6818 | All.
New York | NK18-12 | 6819 | All.
New York | NK18-12 | 6820 | All.
New York | NK18-12 | 6821 | All.
New York | NK18-12 | 6822 | All.
New York | NK18-12 | 6823 | All.
New York | NK18-12 | 6824 | All.
New York | NK18-12 | 6825 | A, B, C, D, E, F, G, H, I, J, K, L, M.
New York | NK18-12 | 6826 | A, B, C, D, E, F, G, H, I, J, K, L.
New York | NK18-12 | 6827 | A, B, C, D, E, F, G, H, I, J, K, L.
New York | NK18-12 | 6828 | A, B, C, D, E, F, G, H, I, J, K.
New York | NK18-12 | 6829 | A.
New York | NK18-12 | 6862 | L.
New York | NK18-12 | 6863 | B, C, D, E, F, G, H, I, J, K, L, M, N, O, P.
New York | NK18-12 | 6864 | All.
New York | NK18-12 | 6865 | All.
New York | NK18-12 | 6866 | All.
New York | NK18-12 | 6867 | All.
New York | NK18-12 | 6868 | All.
New York | NK18-12 | 6869 | All.
New York | NK18-12 | 6870 | All.
New York | NK18-12 | 6871 | All.
New York | NK18-12 | 6872 | All.
New York | NK18-12 | 6873 | All.
New York | NK18-12 | 6874 | A, B, M, N.
New York | NK18-12 | 6913 | C, D, H.
New York | NK18-12 | 6914 | A, B, C, D, E, F, G, H, I, J, K, L, M, N, O, P.
New York | NK18-12 | 6915 | All.
New York | NK18-12 | 6916 | All.
New York | NK18-12 | 6917 | All.
New York | NK18-12 | 6918 | All.
New York | NK18-12 | 6919 | All.
New York | NK18-12 | 6920 | All.
New York | NK18-12 | 6921 | All.
New York | NK18-12 | 6922 | All.
New York | NK18-12 | 6923 | All.
New York | NK18-12 | 6924 | A, B, C, D, E, F, G, H, I, J, K, L, M, N, O, P.
New York | NK18-12 | 6925 | E, F, G, H, I, J, K, L, M, N, O, P.
New York | NK18-12 | 6926 | M.
New York | NK18-12 | 6964 | C, D, H.
New York | NK18-12 | 6965 | A, B, C, D, E, F, G, H, I, J, K, L, M, N, O, P.
New York | NK18-12 | 6966 | All.
New York | NK18-12 | 6967 | All.
New York | NK18-12 | 6968 | All.
New York | NK18-12 | 6969 | All.
New York | NK18-12 | 6970 | All.
New York | NK18-12 | 6971 | All.
New York | NK18-12 | 6972 | All.
New York | NK18-12 | 6973 | All.
New York | NK18-12 | 6974 | All.
New York | NK18-12 | 6975 | All.
New York | NK18-12 | 6976 | A, E, I, M.
New York | NK18-12 | 7015 | C, D, H.
New York | NK18-12 | 7016 | A, B, C, D, E, F, G, H, I, J, K, L, M, N, O, P.
New York | NK18-12 | 7017 | All.
New York | NK18-12 | 7018 | All.
New York | NK18-12 | 7019 | All.
New York | NK18-12 | 7020 | All.
New York | NK18-12 | 7021 | All.
New York | NK18-12 | 7022 | All.
New York | NK18-12 | 7023 | A, B, C, D, E, F, G, H, I, J, K, L.
New York | NK18-12 | 7024 | A, B, C, D, E, F, G, H, I, J, K, L.
New York | NK18-12 | 7025 | A, B, C, D, E, F, G, H, I, J.
New York | NK18-12 | 7066 | C, D, H.
New York | NK18-12 | 7067 | A, B, C, D, E, F, G, H, I, J, K, L, M, N, O, P.
New York | NK18-12 | 7068 | All.
New York | NK18-12 | 7069 | All.
New York | NK18-12 | 7070 | All.
New York | NK18-12 | 7071 | All.
New York | NK18-12 | 7072 | All.
New York | NK18-12 | 7073 | M.
New York | NK18-12 | 7117 | D.
New York | NK18-12 | 7118 | A, B, C, D, E, F, G, H, I, J, K, L, M, N, O, P.
New York | NK18-12 | 7119 | All.
New York | NK18-12 | 7120 | All.
New York | NK18-12 | 7121 | All.
New York | NK18-12 | 7122 | All.
New York | NK18-12 | 7123 | All.

Call Area Hudson South

The boundary of Call Area Hudson South begins 15 nmi offshore Neptune, New Jersey. The area is about 62 nmi in length from north to south and about 30 nmi in width from east to west. The entire area is approximately 974 square nmi (334,080 hectares) and is described in the table below:

Protraction name | Protraction No. | Block No. | Sub-block
Hudson Canyon | NJ18-03 | 6005 | B, C, D, E, F, G, H, J, K, L, M, N, O, P.
Hudson Canyon | NJ18-03 | 6006 | All.
Hudson Canyon | NJ18-03 | 6007 | All.
Hudson Canyon | NJ18-03 | 6008 | All.
Hudson Canyon | NJ18-03 | 6009 | A, B, C, D, E, F, G, H, I, J, K, L, M, N, O, P.
Hudson Canyon | NJ18-03 | 6010 | I, M, N.
Hudson Canyon | NJ18-03 | 6055 | B, C, D, G, H, K, L, O, P.
Hudson Canyon | NJ18-03 | 6056 | All.
Hudson Canyon | NJ18-03 | 6057 | All.
Hudson Canyon | NJ18-03 | 6058 | All.
Hudson Canyon | NJ18-03 | 6059 | All.
Hudson Canyon | NJ18-03 | 6060 | A, B, C, D, E, F, G, H, I, J, K, L, M, N, O, P.
Hudson Canyon | NJ18-03 | 6061 | I, M, N.
Hudson Canyon | NJ18-03 | 6105 | C, D, G, H, L, P.
Hudson Canyon | NJ18-03 | 6106 | All.
Hudson Canyon | NJ18-03 | 6107 | All.
Hudson Canyon | NJ18-03 | 6108 | All.
Hudson Canyon | NJ18-03 | 6109 | All.
Hudson Canyon | NJ18-03 | 6110 | All.
Hudson Canyon | NJ18-03 | 6111 | A, B, C, D, E, F, G, H, I, J, K, L, M, N, O, P.
Hudson Canyon | NJ18-03 | 6112 | I, M, N.
Hudson Canyon | NJ18-03 | 6155 | D, H, L.
Hudson Canyon | NJ18-03 | 6156 | All.
Hudson Canyon | NJ18-03 | 6157 | All.
Hudson Canyon | NJ18-03 | 6158 | All.
Hudson Canyon | NJ18-03 | 6159 | All.
Hudson Canyon | NJ18-03 | 6160 | All.
Hudson Canyon | NJ18-03 | 6161 | All.
Hudson Canyon | NJ18-03 | 6162 | A, B, C, D, E, F, G, H, I, J, K, L, M, N, O, P.
Hudson Canyon | NJ18-03 | 6163 | E, I, J, M, N, O.
Hudson Canyon | NJ18-03 | 6206 | All.
Hudson Canyon | NJ18-03 | 6207 | All.
Hudson Canyon | NJ18-03 | 6208 | All.
Hudson Canyon | NJ18-03 | 6209 | All.
Hudson Canyon | NJ18-03 | 6210 | All.
Hudson Canyon | NJ18-03 | 6211 | All.
Hudson Canyon | NJ18-03 | 6212 | All.
Hudson Canyon | NJ18-03 | 6213 | All.
Hudson Canyon | NJ18-03 | 6214 | E, I, J, M, N, O.
Hudson Canyon | NJ18-03 | 6256 | All.
Hudson Canyon | NJ18-03 | 6257 | All.
Hudson Canyon | NJ18-03 | 6258 | All.
Hudson Canyon | NJ18-03 | 6259 | All.
Hudson Canyon | NJ18-03 | 6260 | All.
Hudson Canyon | NJ18-03 | 6261 | All.
Hudson Canyon | NJ18-03 | 6262 | All.
Hudson Canyon | NJ18-03 | 6263 | All.
Hudson Canyon | NJ18-03 | 6264 | All.
Hudson Canyon | NJ18-03 | 6265 | E, I, J, M, N, O.
Hudson Canyon | NJ18-03 | 6306 | All.
Hudson Canyon | NJ18-03 | 6307 | All.
Hudson Canyon | NJ18-03 | 6308 | All.
Hudson Canyon | NJ18-03 | 6309 | All.
Hudson Canyon | NJ18-03 | 6310 | All.
Hudson Canyon | NJ18-03 | 6311 | All.
Hudson Canyon | NJ18-03 | 6312 | All.
Hudson Canyon | NJ18-03 | 6313 | All.
Hudson Canyon | NJ18-03 | 6314 | All.
Hudson Canyon | NJ18-03 | 6315 | All.
Hudson Canyon | NJ18-03 | 6316 | E, I, J, M, N, O.
Hudson Canyon | NJ18-03 | 6355 | D, H, L, P.
Hudson Canyon | NJ18-03 | 6356 | All.
Hudson Canyon | NJ18-03 | 6357 | All.
Hudson Canyon | NJ18-03 | 6358 | All.
Hudson Canyon | NJ18-03 | 6359 | All.
Hudson Canyon | NJ18-03 | 6360 | All.
Hudson Canyon | NJ18-03 | 6361 | All.
Hudson Canyon | NJ18-03 | 6362 | All.
Hudson Canyon | NJ18-03 | 6363 | All.
Hudson Canyon | NJ18-03 | 6364 | All.
Hudson Canyon | NJ18-03 | 6365 | All.
Hudson Canyon | NJ18-03 | 6366 | A, E.
Hudson Canyon | NJ18-03 | 6405 | D, H, L, P.
Hudson Canyon | NJ18-03 | 6406 | All.
Hudson Canyon | NJ18-03 | 6407 | All.
Hudson Canyon | NJ18-03 | 6408 | All.
Hudson Canyon | NJ18-03 | 6409 | All.
Hudson Canyon | NJ18-03 | 6410 | All.
Hudson Canyon | NJ18-03 | 6411 | All.
Hudson Canyon | NJ18-03 | 6412 | All.
Hudson Canyon | NJ18-03 | 6413 | All.
Hudson Canyon | NJ18-03 | 6414 | All.
Hudson Canyon | NJ18-03 | 6415 | A, B, C, D, E, F, G, H, I, J, K, L, M, N, O.
Hudson Canyon | NJ18-03 | 6455 | D, H, L, P.
Hudson Canyon | NJ18-03 | 6456 | All.
Hudson Canyon | NJ18-03 | 6457 | All.
Hudson Canyon | NJ18-03 | 6458 | All.
Hudson Canyon | NJ18-03 | 6459 | All.
Hudson Canyon | NJ18-03 | 6460 | All.
Hudson Canyon | NJ18-03 | 6461 | All.
Hudson Canyon | NJ18-03 | 6462 | All.
Hudson Canyon | NJ18-03 | 6463 | All.
Hudson Canyon | NJ18-03 | 6464 | All.
Hudson Canyon | NJ18-03 | 6465 | A, B, C, E, F, I, J, M.
Hudson Canyon | NJ18-03 | 6505 | D, G, H, K, L, O, P.
Hudson Canyon | NJ18-03 | 6506 | All.
Hudson Canyon | NJ18-03 | 6507 | All.
Hudson Canyon | NJ18-03 | 6508 | All.
Hudson Canyon | NJ18-03 | 6509 | All.
Hudson Canyon | NJ18-03 | 6510 | All.
Hudson Canyon | NJ18-03 | 6511 | All.
Hudson Canyon | NJ18-03 | 6512 | All.
Hudson Canyon | NJ18-03 | 6513 | A, B, C, D, E, F, G, H, I, J, K, L, M, N.
Hudson Canyon | NJ18-03 | 6514 | A, B, C, D, E, F, G, H, I, J, K, L.
Hudson Canyon | NJ18-03 | 6515 | A.
Hudson Canyon | NJ18-03 | 6555 | C, D, G, H, K, L, O, P.
Hudson Canyon | NJ18-03 | 6556 | All.
Hudson Canyon | NJ18-03 | 6557 | All.
Hudson Canyon | NJ18-03 | 6558 | All.
Hudson Canyon | NJ18-03 | 6559 | All.
Hudson Canyon | NJ18-03 | 6560 | All.
Hudson Canyon | NJ18-03 | 6561 | All.
Hudson Canyon | NJ18-03 | 6562 | All.
Hudson Canyon | NJ18-03 | 6563 | A, B, E, I.
Hudson Canyon | NJ18-03 | 6605 | B, C, D, F, G, H, J, K, L, N, O, P.
Hudson Canyon | NJ18-03 | 6606 | All.
Hudson Canyon | NJ18-03 | 6607 | All.
Hudson Canyon | NJ18-03 | 6608 | All.
Hudson Canyon | NJ18-03 | 6609 | All.
Hudson Canyon | NJ18-03 | 6610 | All.
Hudson Canyon | NJ18-03 | 6611 | All.
Hudson Canyon | NJ18-03 | 6612 | A, B, C, E, F, G, I, J, M, N.
Hudson Canyon | NJ18-03 | 6655 | B, C, D, F, G, H, J, K, L, N, O, P.
Hudson Canyon | NJ18-03 | 6656 | All.
Hudson Canyon | NJ18-03 | 6657 | All.
Hudson Canyon | NJ18-03 | 6658 | All.
Hudson Canyon | NJ18-03 | 6659 | All.
Hudson Canyon | NJ18-03 | 6660 | All.
Hudson Canyon | NJ18-03 | 6661 | A, B, C, D, E, F, G, H, I, J, K, L, M, N, O.
Hudson Canyon | NJ18-03 | 6662 | A.
Hudson Canyon | NJ18-03 | 6705 | B, C, D, F, G, H, J, K, L, N, O, P.
Hudson Canyon | NJ18-03 | 6706 | All.
Hudson Canyon | NJ18-03 | 6707 | All.
Hudson Canyon | NJ18-03 | 6708 | All.
Hudson Canyon | NJ18-03 | 6709 | All.
Hudson Canyon | NJ18-03 | 6710 | All.
Hudson Canyon | NJ18-03 | 6711 | A, B, C, E, F, I, M.
Hudson Canyon | NJ18-03 | 6755 | B, C, D, F, G, H, J, K, L, N, O, P.
Hudson Canyon | NJ18-03 | 6756 | All.
Hudson Canyon | NJ18-03 | 6757 | All.
Hudson Canyon | NJ18-03 | 6758 | All.
Hudson Canyon | NJ18-03 | 6759 | All.
Hudson Canyon | NJ18-03 | 6760 | A, B, C, D, E, F, G, H, I, J, K, M, N.
Hudson Canyon | NJ18-03 | 6805 | B, C, D, F, G, H, J, K, L, N, O, P.
Hudson Canyon | NJ18-03 | 6806 | All.
Hudson Canyon | NJ18-03 | 6807 | All.
Hudson Canyon | NJ18-03 | 6808 | All.
Hudson Canyon | NJ18-03 | 6809 | All.
Hudson Canyon | NJ18-03 | 6810 | A, B, E
Hudson Canyon | NJ18-03 | 6855 | B, C, D, F, G, H, J, K, L, N, O, P.
Hudson Canyon | NJ18-03 | 6856 | All.
Hudson Canyon | NJ18-03 | 6857 | All.
Hudson Canyon | NJ18-03 | 6858 | All.
Hudson Canyon | NJ18-03 | 6859 | A, B, C, D, E, F, G, H, I, J, K, M, N.
New York | NK18-12 | 6854 | H, L, P.
New York | NK18-12 | 6855 | I, M.
New York | NK18-12 | 6904 | D, H, L.
New York | NK18-12 | 6905 | A, B, E, F, G, I, J, K, L N, O, P.
New York | NK18-12 | 6954 | G, K, L, O, P.
New York | NK18-12 | 6955 | I, M, N, O.
New York | NK18-12 | 7004 | C, D, G, H.
New York | NK18-12 | 7005 | A, B, C, D, E, F, G, H, J, K, L, N, O, P.
New York | NK18-12 | 7006 | E, F, I, J, K, L, M, N, O, P.
New York | NK18-12 | 7007 | M.
New York | NK18-12 | 7055 | B, C, D, F, G, H, J, K, L, N, O, P.
New York | NK18-12 | 7056 | All.
New York | NK18-12 | 7057 | A, B, E, F, G, I, J, K, L, M, N, O, P.
New York | NK18-12 | 7058 | M.
New York | NK18-12 | 7105 | B, C, D, F, G, H, I, J, K, L, M, N, O, P.
New York | NK18-12 | 7106 | All.
New York | NK18-12 | 7107 | All.
New York | NK18-12 | 7108 | A, B, E, F, G, I, J, K, L, M, N, O, P.
New York | NK18-12 | 7109 | I, M, N.

6.2 Unsolicited Lease Request—PNE Wind

On December 30, 2016, BOEM received an unsolicited lease request from PNE Wind USA, Inc. (PNE) for 40,920 acres offshore New York. PNE seeks a lease to develop a 300-400 MW project approximately 28 nmi southeast from the Ruland Road Substation, as described below. BOEM is subsuming portions of PNE's unsolicited request into the Call Areas, and will subject the unsolicited request to the same Area ID analysis and determination of competitive interest as the remainder of the Call Areas.

The unsolicited request is mostly located within the Call Area Fairways South and begins approximately 13.5 nmi from the shore near Fire Island National Seashore in New York and extends roughly 3 nmi seaward. It extends from west to east approximately 15 nmi. It should be noted that 15 lease blocks of the original unsolicited requests have not been included as part of this Call. Specifically, 11 blocks in the northwest portion of the original request have been excluded by the 15 nautical mile visual buffer, and four blocks along the southern and south eastern border of the original request were removed to accommodate a one nautical mile buffer from an existing navigational fairway. The entire area is approximately 48.3 square nmi (16,560 hectares) and is described in the table below:

Protraction name | Protraction No. | Block No. | Sub-block
New York | NK18-12 | 6567 | K, L, O, P.
New York | NK18-12 | 6568 | I, J, K L,M, N, O, P.
New York | NK18-12 | 6569 | H, I, J, K, L, M, N, O, P.
New York | NK18-12 | 6570 | E, F, G, H, I, J, K, L, M, N, O, P.
New York | NK18-12 | 6571 | E, F, G, H, I, J, K, L, M, N, O, P.
New York | NK18-12 | 6572 | E, F, G, H, I, J, K, L, M, N, O, P.
New York | NK18-12 | 6573 | E, I, M.
New York | NK18-12 | 6617 | C, D, G, H, K, L.
New York | NK18-12 | 6618 | A, B, C, D, E, F, G, H, I, J, K, L.
New York | NK18-12 | 6619 | A, B, C, D, E, F, G, H, I, J, K.
New York | NK18-12 | 6620 | A, B, C, D, E, F, G, H.
New York | NK18-12 | 6621 | A, B, C, D, E, F, G, H.
New York | NK18-12 | 6622 | A, B, C, D, E, F, G, H.
New York | NK18-12 | 6623 | A, E.

7 Requested Information From Interested or Affected Parties

BOEM requests specific and detailed comments from the public and other interested or affected parties regarding the following:

1. Geological, geophysical, and biological conditions (including bottom and shallow hazards and live bottom) in the area described in this notice.

2. Information regarding the identification of historic properties or potential effects to historic properties from leasing, site assessment activities (including the construction of meteorological towers or the installation of meteorological buoys), or commercial wind energy development in the areas identified in this Call. This includes potential offshore archaeological sites or other historic properties within the areas described in this notice and also onshore historic properties that could potentially be affected by renewable energy activities within the Call Areas. This information will inform BOEM's review of future undertakings under Section 106 of the NHPA and under NEPA.

3. Information relating to whether or not the visibility of wind turbines located in the offshore Call Areas identified in this notice would adversely affect the landscape or seascape of coastal areas of New York and/or New Jersey, and ideas or strategies that could be used to help mitigate or minimize any adverse visual effects, such as: How far offshore turbines should be placed to minimize the visual impact from the coastline; specific locations or areas to avoid development altogether; or any other strategies to help reduce the visual footprint (for example, the color of the turbines [towers, nacelle, blades], the arrangement or pattern of the turbine array, the dimension of the turbines (e.g., height and blade span), visual navigational aviation lighting requirements, the maximum number of turbines that should be allowed in a specific area, etc.).

4. Information about potentially conflicting uses of the Call Areas, including navigation (commercial and recreational vessel use), recreational fishing hotspots, and commercial fishing areas (see Section 5.1 for additional information regarding known fishing grounds located in the Call Areas).

5. Additional information about port-to-port or port-to-fishing location corridors, determination of appropriate buffers for safety based on the type of vessel between these routes, and the placement of structures in the Call Areas, as well as the density of the types of vessels that utilize these corridors and their ability to use alternative corridors.

6. Additional information regarding recreational and commercial fisheries that operate within these Call Areas, including, but not limited to, the use of the area for recreational tuna and marlin tournaments, the fishing gear types used, seasonal use, and suggestions for reducing use conflicts in response to this Call.

7. BOEM is currently participating in interagency discussions with DOD, Department of Energy, Federal Aviation Administration, and NOAA and conducting research on the potential effect of offshore wind facilities on coastal radar systems. BOEM is requesting additional information regarding the potential for interference with radar systems covering the Call Areas, including, but not limited to, the use of coastal oceanographic radar observations for offshore search and rescue operations and for environmental monitoring.

8. General interest by a developer(s) in constructing a backbone transmission system that would transport electricity generated by wind projects located offshore in the New York Bight, including a general description of the transmission's proposed path and potential interconnection points.

9. Available and pertinent data and information concerning renewable energy resources and environmental conditions in and around the Call Areas. Where applicable, spatial information should be submitted in a format compatible with ArcGIS 10.0 in a geographic coordinate system (NAD 83).

10. Potential buffers between WEAs within the Call Area. Within the Area for Consideration document, the State of New York also included “indicative areas” intended to provide a sense of scale and outline what potential WEAs could look like. The indicative areas were drawn with buffers between the leases, as seen in Europe. Should BOEM delineate its WEAs with buffers to allow for mitigation of potential conflicts, not limited to wake effect, navigation, and/or cumulative environmental effects? Alternatively, should BOEM consider adding stipulations in its leases limiting development within a certain distance of adjacent development without the consent of the other developer (and if so, what distance is appropriate)?

11. Size and number of WEAs within the Call Areas. How should BOEM determine the appropriate size and number of wind energy areas to offer for leasing? As discussed in Section 5, approximately 18% of the Call Areas presented in this document would need to be identified as WEAs to meet the State of New York's request for four 800 MW lease areas. Considering the goals of states within the region of a potential wind energy area is a crucial component of BOEM's process. However, BOEM is seeking further information on what additional factors should be considered in this process.

12. Habitats that may require special attention during siting and construction.

13. Biologically important areas (whether persistent or seasonal) for fish (also see Section 5.3), avian, marine mammal, or sea turtle species, which may be vital for migration, foraging or other biologically important behaviors, or that may seasonally concentrate these species in high numbers.

14. Other relevant socioeconomic, biological, and environmental information.

8 Required Nomination Information

If you intend to submit one or more nominations for a commercial wind energy lease in the Call Areas identified in this notice, you must provide the following information for each nomination:

1. The BOEM Protraction name, number, and specific whole or partial OCS blocks within the Call Area(s) that you are interested in leasing, inclusive of any potential buffers with adjacent leases. Each area you identify should be sized appropriately to accommodate the development of a reasonable wind energy facility. For context, BOEM would consider the nomination of a block of approximately 80,000 acres reasonable, as it would likely be able to support an 800 MW wind energy facility (assuming a power density of 0.01 MW per acre). Nominations that considerably exceed approximately 80,000 acres, e.g. all of the Call Areas, may be deemed unreasonable and not accepted by BOEM. This information should be submitted as a spatial file compatible with ArcGIS 10.0 in a geographic coordinate system (NAD 83) in addition to your hard copy submittal. If your proposed lease area(s) includes one or more partial blocks, please describe those partial blocks in terms of a sixteenth (i.e., sub-block) of an OCS block. If you are commercially interested in an area outside the Call Areas deeper than 60m of water depth, BOEM may consider your nomination either as part of this leasing process or in a separate process at a later date.

2. A description of your objectives and the facilities that you would use to achieve those objectives.

3. A preliminary schedule of proposed activities, including those leading to commercial operations.

4. Available and pertinent data and information concerning renewable energy resources and environmental conditions in the block(s) area(s) that you wish to lease, including energy and resource data and information used to evaluate the Call Area. Where applicable, spatial information should be submitted in a format compatible with ArcGIS 10.0 in a geographic coordinate system (NAD 83).

5. Documentation demonstrating that you are legally qualified to hold a lease, as set forth in 30 CFR 585.106 and 585.107(c). Examples of the documentation appropriate for demonstrating your legal qualifications and related guidance can be found in Chapter 2 and Appendix B of the BOEM Renewable Energy Framework Guide Book available at: http://www.boem.gov/REnGuidebook_03/. Legal qualification documents will be placed in an official file that may be made available for public review. If you wish that any part of your legal qualification documentation be kept confidential, clearly identify what should be kept confidential, and submit it under separate cover (see “Protection of Privileged or Confidential Information Section,” below).

6. Documentation demonstrating that you are technically and financially capable of constructing, operating, maintaining and decommissioning the facilities described in (2) above, as set forth in 30 CFR 585.107(a). Guidance regarding the required documentation to demonstrate your technical and financial qualifications can be found at: http://www.boem.gov/Renewable-Energy-Program/Regulatory-Information/QualificationGuidelines-pdf.aspx. Any documentation you submit to demonstrate your legal, technical, and financial qualifications must be provided to BOEM in both paper and electronic formats. BOEM considers an Adobe PDF file on a storage media device to be an acceptable format for an electronic copy.

It is not required that you submit a nomination in response to this Call in order to participate in a potential future competitive lease sale in the New York Bight, if BOEM determines that competitive interest exists in one or more portions of the Call Area after the close of the Call comment period. However, you will not be able to participate in such a lease sale unless you demonstrate prior to the sale that you are legally, technically, and financially qualified to hold a BOEM renewable energy lease. To ensure that BOEM has sufficient time to process your qualifications package, you should submit this package during the PSN 60-day public comment period. More information can be found at: http://www.boem.gov/Renewable-Energy-Program/Regulatory-Information/QualificationGuidelines-pdf.aspx.

9 Protection of Privileged or Confidential Information

9.1 Freedom of Information Act

BOEM will protect privileged or confidential information that you submit when required by the Freedom of Information Act (FOIA). Exemption 4 of FOIA applies to trade secrets and commercial or financial information that you submit that is privileged or confidential. If you wish to protect the confidentiality of such information, clearly mark it and request that BOEM treat it as confidential. BOEM will not disclose such information if it qualifies for exemption from disclosure under FOIA. Please label privileged or confidential information “Contains Confidential Information” and consider submitting such information as a separate attachment.

BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

9.2 Personal Identifying Information

BOEM does not consider anonymous comments; please include your name and address as part of your submittal. You should be aware that your entire comment, including your name, address, and your personal identifying information, may be made publicly available at any time. All submissions from identified individuals, businesses and organizations will be available for public viewing on regulations.gov. In order for BOEM to withhold from disclosure your personal identifying information, you must identify any information contained in the submittal of your comments that, if released, would constitute a clearly unwarranted invasion of your personal privacy. You must also briefly describe any possible harmful consequence(s) of the disclosure of information, such as embarrassment, injury or other harm.

9.3 Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: April 5, 2018.
Walter D. Cruickshank,
Acting Director, Bureau of Ocean Energy Management.

[FR Doc. 2018-07445 Filed 4-10-18; 8:45 am]

BILLING CODE 4310-MR-P